DEPARTMENT OF HOMELAND SECURITY

8 CFR Parts 270, 274a, and 280

U.S. Customs and Border Protection

19 CFR Part 4

Coast Guard

33 CFR Part 27

Transportation Security Administration

49 CFR Part 1503

RIN 1601-AB11

Civil Monetary Penalty Adjustments for Inflation

AGENCY: Department of Homeland Security (DHS).

ACTION: Final rule.

SUMMARY: In this final rule, DHS adjusts for inflation its civil monetary penalties for 2024, in accordance with the Federal Civil Penalties Inflation Adjustment Act Improvements Act of 2015 and Executive Office of the President (EOP) Office of Management and Budget (OMB) guidance. DHS is also accounting for additional civil monetary penalties that the U.S. Coast Guard is statutorily authorized to collect. The new penalty amounts will be effective for penalties assessed after June 28, 2024 whose associated violations occurred after November 2, 2015.

DATES: This rule is effective on June 28, 2024.

FOR FURTHER INFORMATION CONTACT: Hillary Hunnings, Attorney-Advisor, 202-282-9043, hillary.hunnings@hq.dhs.gov.

SUPPLEMENTARY INFORMATION:

Table of Contents

I. Statutory and Regulatory Background

II. Overview of Final Rule

III. Adjustments by Component

A. Cybersecurity and Infrastructure Security Agency

B. U.S. Customs and Border Protection

C. U.S. Immigration and Customs Enforcement

D. U.S. Coast Guard

E. Transportation Security Administration

IV. Administrative Procedure Act

V. Regulatory Analyses

A. Executive Orders 12866 and 13563

B. Regulatory Flexibility Act

C. Unfunded Mandates Reform Act

D. Paperwork Reduction Act

VI. Signing Authority

I. Statutory and Regulatory Background

On November 2, 2015, the President signed into law the Federal Civil Penalties Inflation Adjustment Act Improvements Act of 2015 (Pub. L. 114-74 section 701 (Nov. 2, 2015)) (2015 Act).¹ The 2015 Act amended the Federal Civil Penalties Inflation Adjustment Act of 1990 (28 U.S.C. 2461 note) to further improve the effectiveness of civil monetary penalties and to maintain their deterrent effect. The 2015 Act required agencies to: (1) adjust the level of civil monetary penalties with an initial “catch-up” adjustment through issuance of an interim final rule (IFR) and (2) make subsequent annual adjustments for inflation.² Through the “catch-up” adjustment, agencies were required to adjust the amounts of civil monetary penalties to more accurately reflect inflation rates.³

¹ The 2015 Act was part of the Bipartisan Budget Act of 2015, Public Law 114-74 (Nov. 2, 2015) (codified as amended at 28 U.S.C. 2461 note).

² Public Law 114-74 section 701(b)(1)(D)(b)(1)-(2).

³ Public Law 114-74 section 701(b)(1)(D)(b)(1)(A)-(B).

For the subsequent annual adjustments, the 2015 Act requires agencies to increase the penalty amounts by a cost-of-living adjustment.⁴ The 2015 Act directs OMB to provide guidance to agencies each year to assist agencies in making the annual adjustments.⁵ The 2015 Act requires agencies to make the annual adjustments no later than January 15 of each year and to publish the adjustments in the Federal Register.⁶

⁴ Public Law 114-74 section 701(b)(1)(D)(b)(2).

⁵ Public Law 114-74 section 701(b)(2)(4)(a).

⁶ Public Law 114-74 section 701(b)(1)(A)(a).

Pursuant to the 2015 Act, DHS undertook a review of the civil penalties that DHS and its components administer.⁷ On July 1, 2016, DHS published an IFR adjusting the maximum civil monetary penalties with an initial “catch-up” adjustment, as required by the 2015 Act.⁸ DHS calculated the adjusted penalties based upon nondiscretionary provisions in the 2015 Act and upon guidance that OMB issued to agencies on February 24, 2016.⁹ The adjusted penalties were effective for civil penalties assessed after August 1, 2016 (the effective date of the IFR), whose associated violations occurred after November 2, 2015 (the date of enactment of the 2015 Act).¹⁰ On January 27, 2017, DHS published a final rule making the annual adjustment for 2017.¹¹ On April 2, 2018, DHS made the 2018 annual inflation adjustment.¹² On April 5, 2019, DHS made the 2019 annual inflation adjustment.¹³ On June 17, 2020, DHS made the 2020 annual inflation adjustment.¹⁴ On October 18, 2021, DHS made the 2021 annual inflation adjustment.¹⁵ On January 11, 2022, DHS made the 2022 annual inflation adjustment.¹⁶ On January 13, 2023, DHS made the 2023 annual inflation adjustment.¹⁷

⁷ The 2015 Act applies to all agency civil penalties except for any penalty (including any addition to tax and additional amount) under the Internal Revenue Code of 1986 (26 U.S.C. 1 et seq.) and the Tariff Act of 1930 (19 U.S.C. 1202 et seq.). See sec. 4(a)(1) of the 2015 Act. In the case of DHS, several civil penalties that are assessed by U.S. Customs and Border Protection (CBP) and the U.S. Coast Guard (USCG) fall under the Tariff Act of 1930, and therefore DHS did not adjust those civil penalties in this rulemaking.

⁸ 81 FR 42987 (July 1, 2016).

⁹ Id.; Office of Mgmt. & Budget, Exec. Office of The President, M-16-06, Implementation of the Federal Civil Penalties Inflation Adjustment Act Improvements Act of 2015, Table A: 2016 Civil Monetary Penalty Catch-Up Adjustment Multiplier by Calendar Year, (Feb. 24, 2016) (https://www.whitehouse.gov/omb/information-for-agencies/memoranda/#memoranda-2016).

¹⁰ 81 FR at 42987 (July 1, 2016).

¹¹ 82 FR 8571 (Jan. 27, 2017).

¹² 83 FR 13826 (Apr. 2, 2018).

¹³ 84 FR 13499 (Apr. 5, 2019).

¹⁴ 85 FR 36469 (June 17, 2020).

¹⁵ 86 FR 57532 (Oct. 18, 2021).

¹⁶ 87 FR 1317 (Jan. 11, 2022).

¹⁷ 88 FR 2175 (Jan. 13, 2023).

II. Overview of the Final Rule

This final rule makes the 2024 annual inflation adjustments to civil monetary penalties pursuant to the 2015 Act and pursuant to guidance OMB issued to agencies on December 19, 2023.¹⁸ The penalty amounts in this final rule will be effective for penalties assessed after June 28, 2024 where the associated violation occurred after November 2, 2015. Consistent with OMB guidance, the 2015 Act does not retrospectively change previously assessed penalties that the agency is actively collecting or has collected.

¹⁸ Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).

We discuss civil penalties by DHS component in Section III below. For each component identified in Section III, below, we briefly describe the relevant civil penalty (or penalties), and we provide a table showing the increase in the penalties for 2024. In the table for each component, we show (1) the penalty name, (2) the penalty statutory and or regulatory citation, (3) the penalty amount as adjusted in the 2023 final rule, (4) the cost-of-living adjustment multiplier for 2024 that OMB provided in its December 19, 2023, guidance, and (5) the new 2024 adjusted penalty. The 2015 Act instructs agencies to round penalties to the nearest multiple of $1.¹⁹ For a more complete discussion of the method used for calculating the initial “catch-up” inflation adjustments and a component-by-component breakdown to the nature of the civil penalties and relevant legal authorities, please see the IFR preamble at 81 FR 42987-43000.

¹⁹ Public Law 114-74 section 701(b)(2)(A).

Additionally, in Section III(D) discussing the civil penalties of the U.S. Coast Guard, DHS is accounting for additional civil monetary penalties that the U.S. Coast Guard is statutorily authorized to collect.

Finally, in issuing this final rule, it is DHS's intention that the rule's penalty provisions be considered severable from one another to the greatest extent possible. For example, if a court of competent jurisdiction were to hold that a particular penalty amount could not be applied as adjusted for inflation to particular persons or in particular circumstances, DHS would intend for the court to leave the remainder of the rule in place with respect to all other penalties as adjusted for inflation and covered persons and circumstances.

III. Adjustments by Component

In the following sections, we briefly describe the civil penalties that DHS and its components, the Cybersecurity and Infrastructure Security Agency (CISA), the U.S. Customs and Border Protection (CBP), the U.S. Immigration and Customs Enforcement (ICE), the U.S. Coast Guard (USCG), and the Transportation Security Administration (TSA), assess. Other components not mentioned do not impose any civil monetary penalties for 2024. At the end of each section we include tables that list the individual adjustments for each penalty.

A. Cybersecurity and Infrastructure Security Agency

The Cybersecurity and Infrastructure Security Agency (CISA) administers the Chemical Facility Anti-Terrorism Standards (CFATS). CFATS is a program that regulates the security of chemical facilities that, in the discretion of the Secretary, present high levels of security risk. DHS established the CFATS program in 2007 pursuant to section 550 of the Department of Homeland Security Appropriations Act of 2007 (Pub. L. 109-295).²⁰ Pursuant to section 5 of the Protecting and Securing Chemical Facilities from Terrorist Attacks Act of 2014 (Pub. L. 113-254, as amended by Pub. L. 116-150; 6 U.S.C. 621 note), authorization had been granted for CFATS until July 27, 2023. Congress did not act to reauthorize the program in time and, as such, the authorization expired on July 28, 2023. Therefore, regulations written pursuant to CFATS authority are not currently active. While regulatory text for the CFATS regulation, including a civil penalty, is located in part 27 of title 6 of the Code of Federal Regulations (CFR), the text is inactive due to the lapse in authority. For that reason, we are not proposing any changes relating to adjustments to the maximum civil penalty amount that may be assessed pursuant to CFATS at this time.

²⁰ Section 550 has since been superseded by the Protecting and Securing Chemical Facilities from Terrorist Attacks Act of 2014 (Public Law 113-254). The new legislation codified the statutory authority for the CFATS program within Title XXI of the Homeland Security Act of 2002, as amended. See 6 U.S.C. 621 et seq. Public Law 113-254 authorized the CFATS program from January 18, 2015, to January 17, 2019. Public Law 116-150 extends the CFATS program authorization to July 27, 2023.

B. U.S. Customs and Border Protection

The U.S. Customs and Border Protection (CBP) assesses civil monetary penalties under various titles of the United States Code (U.S.C.) and the CFR. These include penalties for certain violations of title 8 of the CFR regarding the Immigration and Nationality Act of 1952 (Pub. L. 82-414, as amended) (INA). The INA contains provisions that impose penalties on persons, including carriers and aliens, who violate specified provisions of the INA. The relevant penalty provisions appear in numerous sections of the INA; however, CBP has enumerated these penalties in regulation in one location—8 CFR 280.53. For a complete list of the INA sections for which penalties are assessed, in addition to a brief description of each violation, see the 2016 IFR preamble at 81 FR 42989-42990. For a complete list and brief description of the non-INA civil monetary penalties assessed by CBP subject to adjustment and a discussion of the history of the DHS and CBP adjustments to the non-INA penalties, see the 2019 annual inflation adjustment final rule preamble at 84 FR 13499, 13500 (April 5, 2019).

Below is a table showing the 2024 adjustment for the penalties that CBP administers.

Table 1—U.S. Customs and Border Protection Civil Penalties Adjustments
Penalty name | Citation | Penalty amount as adjusted in the 2023 FR | Multiplier * | New penalty as adjusted by this final rule
Penalties for non-compliance with arrival and departure manifest requirements for passengers, crewmembers, or occupants transported on commercial vessels or aircraft arriving to or departing from the United States | 8 U.S.C. 1221(g); 8 CFR 280.53(b)(1) (INA section 231(g)) | $1,643 | 1.03241 | $1,696.
Penalties for non-compliance with landing requirements at designated ports of entry for aircraft transporting aliens | 8 U.S.C. 1224; 8 CFR 280.53(b)(2) (INA section 234) | $4,465 | 1.03241 | $4,610.
Penalties for failure to depart voluntarily | 8 U.S.C. 1229c(d); 8 CFR 280.53(b)(3) (INA section 240B(d)) | $1,881-$9,413 | 1.03241 | $1,942-$9,718.
Penalties for violations of removal orders relating to aliens transported on vessels or aircraft under section 241(d) of the INA, or for costs associated with removal under section 241(e) of the INA | 8 U.S.C. 1253(c)(1)(A); 8 CFR 280.53(b)(4) (INA section 243(c)(1)(A)) | $3,765 | 1.03241 | $3,887.
Penalties for failure to remove alien stowaways under section 241(d)(2) of the INA | 8 U.S.C. 1253(c)(1)(B); 8 CFR 280.53(b)(5) (INA section 243(c)(1)(B)) | $9,413 | 1.03241 | $9,718.
Penalties for failure to report an illegal landing or desertion of alien crewmen, and for each alien not reported on arrival or departure manifest or lists required in accordance with section 251 of the INA | 8 U.S.C. 1281(d); 8 CFR 280.53(b)(6) (INA section 251(d)) | $446 for each alien | 1.03241 | $460 for each alien.
Penalties for use of alien crewmen for longshore work in violation of section 251(d) of the INA | 8 U.S.C. 1281(d); 8 CFR 280.53(b)(6) (INA section 251(d)) | $11,162 | 1.03241 | $11,524.
Penalties for failure to control, detain, or remove alien crewmen | 8 U.S.C. 1284(a); 8 CFR 280.53(b)(7) (INA section 254(a)) | $1,116-$6,696 | 1.03241 | $1,152-$6,913.
Penalties for employment on passenger vessels of aliens afflicted with certain disabilities | 8 U.S.C. 1285; 8 CFR 280.53(b)(8) (INA section 255) | $2,232 | 1.03241 | $2,304.
Penalties for discharge of alien crewmen | 8 U.S.C. 1286; 8 CFR 280.53(b)(9) (INA section 256) | $3,348-$6,696 | 1.03241 | $3,457-$6,913.
Penalties for bringing into the United States alien crewmen with intent to evade immigration laws | 8 U.S.C. 1287; 8 CFR 280.53(b)(10) (INA section 257) | $22,324 | 1.03241 | $23,048.
Penalties for failure to prevent the unauthorized landing of aliens | 8 U.S.C. 1321(a); 8 CFR 280.53(b)(11) (INA section 271(a)) | $6,696 | 1.03241 | $6,913.
Penalties for bringing to the United States aliens subject to denial of admission on a health-related ground | 8 U.S.C. 1322(a); 8 CFR 280.53(b)(12) (INA section 272(a)) | $6,696 | 1.03241 | $6,913.
Penalties for bringing to the United States aliens without required documentation | 8 U.S.C. 1323(b); 8 CFR 280.53(b)(13) (INA section 273(b)) | $6,696 | 1.03241 | $6,913.
Penalties for failure to depart | 8 U.S.C. 1324d; 8 CFR 280.53(b)(14) (INA section 274D) | $942 | 1.03241 | $973.
Penalties for improper entry | 8 U.S.C. 1325(b); 8 CFR 280.53(b)(15) (INA section 275(b)) | $94-$472 | 1.03241 | $97-487.
Penalty for dealing in or using empty stamped imported liquor containers | 19 U.S.C. 469 | $625 | 1.03241 | $645.**
Penalty for employing a vessel in a trade without a required Certificate of Documentation | 19 U.S.C. 1706a 19 CFR 4.80(i) | $1,566 | 1.03241 | $1,617.
Penalty for transporting passengers coastwise for hire by certain vessels (known as Bowaters vessels) that do not meet specified conditions | 46 U.S.C. 12118(f)(3) | $625 | 1.03241 | $645.**
Penalty for transporting passengers between coastwise points in the United States by a non-coastwise qualified vessel | 46 U.S.C. 55103(b); 19 CFR 4.80(b)(2) | $941 | 1.03241 | $971.
Penalty for towing a vessel between coastwise points in the United States by a non-coastwise qualified vessel | 46 U.S.C. 55111(c); 19 CFR 4.92 | $1,096-$3,446 plus $187 per ton | 1.03241 | $1,132-$3,558 plus $193 per ton.
* Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).
** No applicable conforming edit to regulatory text.

C. U.S. Immigration and Customs Enforcement

U.S. Immigration and Customs Enforcement (ICE) assesses civil monetary penalties for certain employment-related violations arising from the INA. ICE's civil penalties are located in title 8 of the CFR.

There are three different sections in the INA that impose civil monetary penalties for violations of the laws that relate to employment actions: sections 274A, 274B, and 274C. ICE has primary enforcement responsibilities for two of these civil penalty provisions (sections 274A and 274C), and the Department of Justice (DOJ) has enforcement responsibilities for one of these civil penalty provisions (section 274B). The INA, in sections 274A and 274C, provides for imposition of civil penalties for various specified unlawful acts pertaining to the employment eligibility verification process (Form I-9, Employment Eligibility Verification), the employment of unauthorized aliens, and document fraud.

Because both DHS and DOJ implement the three employment-related penalty sections in the INA, both Departments' implementing regulations reflect the civil penalty amounts. For a complete description of the civil money penalties assessed and a discussion of DHS's and DOJ's efforts to update the penalties in years past, see the IFR preamble at 81 FR 42991. Below is a table showing the 2024 adjustment for the penalties that ICE administers.²¹

²¹ Table 3 also includes two civil penalties that are also listed as penalties administered by CBP. These are penalties for failure to depart voluntarily, INA section 240B(d), and failure to depart after a final order of removal, INA section 274D. Both CBP and ICE may administer these penalties, but as ICE is the DHS component primarily responsible for assessing and collecting them, they are also listed among the penalties ICE administers.

Table 2—U.S. Immigration and Customs Enforcement Civil Penalties Adjustments
Penalty name | Citation | Penalty amount as adjusted in the 2023 FR | Multiplier * | New penalty as adjusted by this final rule
Civil penalties for failure to depart voluntarily, INA section 240B(d) | 8 U.S.C. 1229c(d); 8 CFR 280.53(b)(3) | $1,881-$9,413 | 1.03241 | $1,942-$9,718.
Civil penalties for violation of INA sections 274C(a)(1)-(a)(4), penalty for first offense | 8 CFR 270.3(b)(1)(ii)(A) | $557-$4,465 | 1.03241 | $575-$4,610.
Civil penalties for violation of INA sections 274C(a)(5)-(a)(6), penalty for first offense | 8 CFR 270.3(b)(1)(ii)(B) | $472-$3,765 | 1.03241 | $487-$3,887.
Civil penalties for violation of INA sections 274C(a)(1)-(a)(4), penalty for subsequent offenses | 8 CFR 270.3(b)(1)(ii)(C) | $4,465-$11,162 | 1.03241 | $4,610-$11,524.
Civil penalties for violation of INA sections 274C(a)(5)-(a)(6), penalty for subsequent offenses | 8 CFR 270.3(b)(1)(ii)(D) | $3,765-$9,413 | 1.03241 | $3,887-$9,718.
Violation/prohibition of indemnity bonds | 8 CFR 274a.8(b) | $2,701 | 1.03241 | $2,789.
Civil penalties for knowingly hiring, recruiting, referral, or retention of unauthorized aliens—Penalty for first offense (per unauthorized alien) | 8 CFR 274a.10(b)(1)(ii)(A) | $676-$5,404 | 1.03241 | $698-$5,579.
Penalty for second offense (per unauthorized alien) | 8 CFR 274a.10(b)(1)(ii)(B) | $5,404-$13,508 | 1.03241 | $5,579-$13,946.
Penalty for third or subsequent offense (per unauthorized alien) | 8 CFR 274a.10(b)(1)(ii)(C) | $8,106-$27,018 | 1.03241 | $8,369-$27,894.
Civil penalties for I-9 paperwork violations | 8 CFR 274a.10(b)(2) | $272-$2,701 | 1.03241 | $281-$2,789.
Civil penalties for failure to depart, INA section 274D | 8 U.S.C. 1324d; 8 CFR 280.53(b)(14) | $942 | 1.03241 | $973.
* Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).

D. U.S. Coast Guard

The Coast Guard is authorized to assess nearly 150 penalties involving maritime safety and security and environmental stewardship that are critical to the continued success of Coast Guard missions. Various statutes in titles 14, 16, 19, 33, 42, 46, and 49 of the U.S.C. authorize these penalties. Titles 33 and 46 authorize the vast majority of these penalties as these statutes deal with navigation, navigable waters, and shipping. For a more detailed discussion of the civil monetary penalties assessed by the Coast Guard, see the 2016 IFR preamble at 81 FR 42992.

The Coast Guard has identified the penalties it administers, adjusted those penalties for inflation, and is listing those new penalties in a table located in the CFR—specifically, Table 1 in 33 CFR 27.3. Table 1 in 33 CFR 27.3 identifies the statutes that provide the Coast Guard with civil monetary penalty authority and sets out the inflation-adjusted maximum penalty that the Coast Guard may impose pursuant to each statutory provision. Table 1 in 33 CFR 27.3 provides the current maximum penalty for violations that occurred after November 2, 2015. The applicable civil monetary penalty amounts for violations occurring on or before November 2, 2015, are set forth in previously published regulations amending 33 CFR part 27. To find the applicable penalty amount for a violation that occurred on or before November 2, 2015, look to the prior versions of the CFR that pertain to the date on which the violation occurred.

The Coast Guard has also identified updates to Table 1 in 33 CFR 27.3 to ensure it accurately reflects all civil monetary penalties that the Coast Guard is statutorily authorized to impose by statute. Table 3, below, lists the penalties that this rule adds or revises in Table 1 in 33 CFR 27.3 followed by a description of each. The added penalties are those that were either recently enacted or inadvertently excluded from Table 1 in 33 CFR 27.3 and from prior civil monetary penalty adjustment rulemakings but that are set and authorized for Coast Guard's assessment by statute. They are now added to Table 1 in 33 CFR 27.3 to create a more complete list of Coast Guard civil monetary penalties and to align with the requirements of the 2015 Act. This rule also removes one penalty, specifically 46 U.S.C. 10104(b), from the existing Table 1 in 33 CFR 27.3 because Congress revised and replaced the penalties in 46 U.S.C. 10104 with those that now appear at 46 U.S.C. 10104(a)(2) and 46 U.S.C. 10104(d)(2).²²

²² Public Law 117-263 section 11609 (Dec. 23, 2022) (codified as amended at 46 U.S.C. 10104).

Table 3—U.S. Coast Guard Civil Penalty Additions
Penalty name | Citation | Penalty amount as adjusted in the 2023 FR | Multiplier * | New penalty as adjusted by this final rule
Master Key Control System | 46 U.S.C. 3106(d) | $1,000 | 1.03241 | $1,032.
Passenger Vessel Security and Safety; Daily Penalty & Maximum Penalty | 46 U.S.C. 3507(h)(1)(A) | Daily $25,000/Maximum $50,000 | 1.03241 | Daily $25,810/Maximum $51,621.
Passenger Vessel Security and Safety; Crewmembers Crime Scene Preservation Training; Maximum Penalty | 46 U.S.C. 3508(d) | $50,000 | 1.03241 | $51,621.
Engine Cut-Off Switches; Violation of 4312(b), First Offense | 46 U.S.C. 4311(c) | $100 | 1.03241 | $103.
Engine Cut-Off Switches; Violation of 4312(b), Second Offense | 46 U.S.C. 4311(c) | $250 | 1.03241 | $258.
Engine Cut-Off Switches; Violation of 4312(b), Subsequent to Second Offense | 46 U.S.C. 4311(c) | $500 | 1.03241 | $516.
Employing Qualified Available U.S. Citizens or Residents | 46 U.S.C. 8106(f)(2)-(3) | Daily $10,000/Maximum $100,000 | 1.03241 | Daily $10,324/Maximum $103,241.
Requirement to Report Sexual Assault and Harassment; Mandatory Reporting by Responsible Entity of a Vessel | 46 U.S.C. 10104(a)(2) | $50,000 | 1.03241 | $51,621.
Requirement to Report Sexual Assault and Harassment; Company After Action Summary, violation of 10104(d)(1) | 46 U.S.C. 10104(d)(2) | $25,000 | 1.03241 | $25,810.
Requirement to Report Sexual Assault and Harassment; Company After Action Summary, daily noncompliance penalty | 46 U.S.C. 10104(d)(2) | $500 | 1.03241 | $516.
Requirement to Report Sexual Assault and Harassment; Company After Action Summary, Civil Penalty Maximum | 46 U.S.C. 10104(d)(2) | $50,000 | 1.03241 | $51,621.
Vessel escort operations and towing assistance | 46 U.S.C. 55112(d) | $10,000 | 1.03241 | $10,324.
Regulation of Vessels in Territorial Waters of the United States | 46 U.S.C. 70052(c) | $25,000 | 1.03241 | $25,810.
* Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).

The James M. Inhofe National Defense Authorization Act for Fiscal Year 2023 (2023 NDAA) authorized a civil penalty of $1,000 under 46 U.S.C. 3106(d) for violations of the required Master Key Control System.²³ That penalty became effective on December 23, 2022 ²⁴ and is included in the updates to Table 1 in 33 CFR 27.3. The civil monetary penalties for violations of passenger vessel security and safety requirements, authorized by 46 U.S.C. 3507(h)(1)(A), and violations of crewmembers' crime scene preservation training requirements, authorized by 46 U.S.C. 3508(d), are also included. The penalty in section 3508(d) was previously authorized in 46 U.S.C. 3508(e) and was redesignated to paragraph 3508(d) by the John S. McCain National Defense Authorization Act for Fiscal Year 2018.²⁵ These civil monetary penalties involving cruise vessel security and safety are in effect per statute and Coast Guard policy letters.²⁶

²³ See Public Law 117-263 section 3106 (Dec. 23, 2022).

²⁴ Id.

²⁵ See Public Law 115-232 section 3543 (Aug.13, 2018).

²⁶ See CG-543 Policy Letter 11-09 (June 28, 2011) & CG-543 Policy Letter 11-10 (July 27, 2011).

USCG also adds penalties for violating requirements for engine cutoff switches for first offense, second offense, and subsequent-to-second offense. These three penalties in 46 U.S.C. 4311(c) were codified by Section 8316 of the William M. (Mac) Thornberry National Defense Authorization Act for Fiscal Year 2021, (Pub. L. 116-283, January 1, 2021). In addition, the Coast Guard adds the existing civil penalty for Employing Qualified Available U.S. Citizens or Residents in 46 U.S.C. 8106(f). This penalty was originally authorized by Congress through Section 312 of the Coast Guard and Maritime Transportation Act of 2006 (Pub. L. 109-241, July 11, 2006).

Penalties for violations of a requirement of mandatory reporting of sexual assault and sexual harassment and violations for non-compliance with requirements to submit a company after-action summary, as codified at 46 U.S.C. 10104(a)(2) and 10104(d)(2), are also added to Table 1 in 33 CFR 27.3. An after-action summary summarizes the actions taken after an incident of sexual assault or sexual harassment. These penalties were added by the 2023 NDAA and became effective on December 23, 2022.²⁷ The Coast Guard also adds a civil penalty for violating vessel escort operations and towing requirements, authorized at 46 U.S.C. 55112(d) as well as a civil penalty for violations of anchorage and vessel movement during a national emergency authorized by 46 U.S.C. 70052(c) under subchapter VI Regulation of Vessels in the Territorial Waters of the United States, an important national security enforcement authority of the Coast Guard.

²⁷ See Public Law 117-263 section 11609 (Dec. 23, 2022).

Table 4 below shows the 2024 adjustment for the remaining penalties that the Coast Guard administers that have previously already been included in Table 1 of 33 CFR 27.3.

Table 4—U.S. Coast Guard Civil Penalties Adjustments
Penalty name | Citation | Penalty amount as adjusted in the 2023 FR | Multiplier * | New penalty as adjusted by this final rule
Saving Life and Property | 14 U.S.C. 521(c) | $12,551 | 1.03241 | $12,958.
Saving Life and Property; Intentional Interference with Broadcast | 14 U.S.C. 521(e) | 1,288 | 1.03241 | 1,330.
Confidentiality of Medical Quality Assurance Records (first offense) | 14 U.S.C. 936(i); 33 CFR 27.3 | 6,304 | 1.03241 | 6,508.
Confidentiality of Medical Quality Assurance Records (subsequent offenses) | 14 U.S.C. 936(i); 33 CFR 27.3 | 42,032 | 1.03241 | 43,394.
Obstruction of Revenue Officers by Masters of Vessels | 19 U.S.C. 70; 33 CFR 27.3 | 9,399 | 1.03241 | 9,704.
Obstruction of Revenue Officers by Masters of Vessels-Minimum Penalty | 19 U.S.C. 70; 33 CFR 27.3 | 2,193 | 1.03241 | 2,264.
Failure to Stop Vessel When Directed; Master, Owner, Operator or Person in Charge | 19 U.S.C. 1581(d) | ** 5,000 | N/A | ** 5,000.
Failure to Stop Vessel When Directed; Master, Owner, Operator or Person in Charge-Minimum Penalty | 19 U.S.C. 1581(d) | ** 1,000 | N/A | ** 1,000.
Anchorage Ground/Harbor Regulations General | 33 U.S.C. 471; 33 CFR 27.3 | 13,627 | 1.03241 | 14,069.
Anchorage Ground/Harbor Regulations St. Mary's river | 33 U.S.C. 474; 33 CFR 27.3 | 941 | 1.03241 | 971.
Bridges/Failure to Comply with Regulations | 33 U.S.C. 495(b); 33 CFR 27.3 | 34,401 | 1.03241 | 35,516.
Bridges/Drawbridges | 33 U.S.C. 499(c); 33 CFR 27.3 | 34,401 | 1.03241 | 35,516.
Bridges/Failure to Alter Bridge Obstructing Navigation | 33 U.S.C. 502(c); 33 CFR 27.3 | 34,401 | 1.03241 | 35,516.
Bridges/Maintenance and Operation | 33 U.S.C. 533(b); 33 CFR 27.3 | 34,401 | 1.03241 | 35,516.
Bridge to Bridge Communication; Master, Person in Charge or Pilot | 33 U.S.C. 1208(a); 33 CFR 27.3 | 2,506 | 1.03241 | 2,587.
Bridge to Bridge Communication; Vessel | 33 U.S.C. 1208(b); 33 CFR 27.3 | 2,506 | 1.03241 | 2,587.
Oil/Hazardous Substances: Discharges (Class I per violation) | 33 U.S.C. 1321(b)(6)(B)(i); 33 CFR 27.3 | 22,324 | 1.03241 | 23,048.
Oil/Hazardous Substances: Discharges (Class I total under paragraph) | 33 U.S.C. 1321(b)(6)(B)(i); 33 CFR 27.3 | 55,808 | 1.03241 | 57,617.
Oil/Hazardous Substances: Discharges (Class II per day of violation) | 33 U.S.C. 1321(b)(6)(B)(ii); 33 CFR 27.3 | 22,324 | 1.03241 | 23,048.
Oil/Hazardous Substances: Discharges (Class II total under paragraph) | 33 U.S.C. 1321(b)(6)(B)(ii); 33 CFR 27.3 | 279,036 | 1.03241 | 288,080.
Oil/Hazardous Substances: Discharges (per day of violation) Judicial Assessment | 33 U.S.C. 1321(b)(7)(A); 33 CFR 27.3 | 55,808 | 1.03241 | 57,617.
Oil/Hazardous Substances: Discharges (per barrel of oil or unit discharged) Judicial Assessment | 33 U.S.C. 1321(b)(7)(A); 33 CFR 27.3 | 2,233 | 1.03241 | 2,305.
Oil/Hazardous Substances: Failure to Carry Out Removal/Comply With Order (Judicial Assessment) | 33 U.S.C. 1321(b)(7)(B); 33 CFR 27.3 | 55,808 | 1.03241 | 57,617.
Oil/Hazardous Substances: Failure to Comply with Regulation Issued Under 1321(j) (Judicial Assessment) | 33 U.S.C. 1321(b)(7)(C); 33 CFR 27.3 | 55,808 | 1.03241 | 57,617.
Oil/Hazardous Substances: Discharges, Gross Negligence (per barrel of oil or unit discharged) Judicial Assessment | 33 U.S.C. 1321(b)(7)(D); 33 CFR 27.3 | 6,696 | 1.03241 | 6,913.
Oil/Hazardous Substances: Discharges, Gross Negligence-Minimum Penalty (Judicial Assessment) | 33 U.S.C. 1321(b)(7)(D); 33 CFR 27.3 | 223,229 | 1.03241 | 230,464.
Marine Sanitation Devices; Operating | 33 U.S.C. 1322(j); 33 CFR 27.3 | 9,399 | 1.03241 | 9,704.
Marine Sanitation Devices; Sale or Manufacture | 33 U.S.C. 1322(j); 33 CFR 27.3 | 25,059 | 1.03241 | 25,871.
International Navigation Rules; Operator | 33 U.S.C. 1608(a); 33 CFR 27.3 | 17,570 | 1.03241 | 18,139.
International Navigation Rules; Vessel | 33 U.S.C. 1608(b); 33 CFR 27.3 | 17,570 | 1.03241 | 18,139.
Pollution from Ships; General | 33 U.S.C. 1908(b)(1); 33 CFR 27.3 | 87,855 | 1.03241 | 90,702.
Pollution from Ships; False Statement | 33 U.S.C. 1908(b)(2); 33 CFR 27.3 | 17,570 | 1.03241 | 18,139.
Inland Navigation Rules; Operator | 33 U.S.C. 2072(a); 33 CFR 27.3 | 17,570 | 1.03241 | 18,139.
Inland Navigation Rules; Vessel | 33 U.S.C. 2072(b); 33 CFR 27.3 | 17,570 | 1.03241 | 18,139.
Shore Protection; General | 33 U.S.C. 2609(a); 33 CFR 27.3 | 61,982 | 1.03241 | 63,991.
Shore Protection; Operating Without Permit | 33 U.S.C. 2609(b); 33 CFR 27.3 | 24,793 | 1.03241 | 25,597.
Oil Pollution Liability and Compensation | 33 U.S.C. 2716a(a); 33 CFR 27.3 | 55,808 | 1.03241 | 57,617.
Clean Hulls | 33 U.S.C. 3852(a)(1)(A); 33 CFR 27.3 | 51,097 | 1.03241 | 52,753.
Clean Hulls-related to false statements | 33 U.S.C. 3852(a)(1)(A); 33 CFR 27.3 | 68,129 | 1.03241 | 70,337.
Clean Hulls-Recreational Vessel | 33 U.S.C. 3852(c); 33 CFR 27.3 | 6,813 | 1.03241 | 7,034.
Hazardous Substances, Releases, Liability, Compensation (Class I) | 42 U.S.C. 9609(a); 33 CFR 27.3 | 67,544 | 1.03241 | 69,733.
Hazardous Substances, Releases, Liability, Compensation (Class II) | 42 U.S.C. 9609(b); 33 CFR 27.3 | 67,544 | 1.03241 | 69,733.
Hazardous Substances, Releases, Liability, Compensation (Class II subsequent offense) | 42 U.S.C. 9609(b); 33 CFR 27.3 | 202,635 | 1.03241 | 209,202.
Hazardous Substances, Releases, Liability, Compensation (Judicial Assessment) | 42 U.S.C. 9609(c); 33 CFR 27.3 | 67,544 | 1.03241 | 69,733.
Hazardous Substances, Releases, Liability, Compensation (Judicial Assessment subsequent offense) | 42 U.S.C. 9609(c); 33 CFR 27.3 | 202,635 | 1.03241 | 209,202.
Safe Containers for International Cargo | 46 U.S.C. 80509; 33 CFR 27.3 | 7,383 | 1.03241 | 7,622.
Suspension of Passenger Service | 46 U.S.C. 70305; 33 CFR 27.3 | 73,837 | 1.03241 | 76,230.
Vessel Inspection or Examination Fees | 46 U.S.C. 2110(e); 33 CFR 27.3 | 11,162 | 1.03241 | 11,524.
Alcohol and Dangerous Drug Testing | 46 U.S.C. 2115; 33 CFR 27.3 | 9,086 | 1.03241 | 9,380.
Negligent Operations: Recreational Vessels | 46 U.S.C. 2302(a); 33 CFR 27.3 | 8,219 | 1.03241 | 8,485.
Negligent Operations: Other Vessels | 46 U.S.C. 2302(a); 33 CFR 27.3 | 41,093 | 1.03241 | 42,425.
Operating a Vessel While Under the Influence of Alcohol or a Dangerous Drug | 46 U.S.C. 2302(c)(1); 33 CFR 27.3 | 9,086 | 1.03241 | 9,380.
Vessel Reporting Requirements: Owner, Charterer, Managing Operator, or Agent | 46 U.S.C. 2306(a)(4); 33 CFR 27.3 | 14,149 | 1.03241 | 14,608.
Vessel Reporting Requirements: Master | 46 U.S.C. 2306(b)(2); 33 CFR 27.3 | 2,830 | 1.03241 | 2,922.
Immersion Suits | 46 U.S.C. 3102(c)(1); 33 CFR 27.3 | 14,149 | 1.03241 | 14,608.
Inspection Permit | 46 U.S.C. 3302(i)(5); 33 CFR 27.3 | 2,951 | 1.03241 | 3,047.
Vessel Inspection; General | 46 U.S.C. 3318(a); 33 CFR 27.3 | 14,149 | 1.03241 | 14,608.
Vessel Inspection; Nautical School Vessel | 46 U.S.C. 3318(g); 33 CFR 27.3 | 14,149 | 1.03241 | 14,608.
Vessel Inspection; Failure to Give Notice in accordance with (IAW) 3304(b) | 46 U.S.C. 3318(h); 33 CFR 27.3 | 2,830 | 1.03241 | 2,922.
Vessel Inspection; Failure to Give Notice IAW 3309(c) | 46 U.S.C. 3318(i); 33 CFR 27.3 | 2,830 | 1.03241 | 2,922.
Vessel Inspection; Vessel ≥1600 Gross Tons | 46 U.S.C. 3318(j)(1); 33 CFR 27.3 | 28,304 | 1.03241 | 29,221.
Vessel Inspection; Vessel <1600 Gross Tons (GT) | 46 U.S.C. 3318(j)(1); 33 CFR 27.3 | 5,661 | 1.03241 | 5,844.
Vessel Inspection; Failure to Comply with 3311(b) | 46 U.S.C. 3318(k); 33 CFR 27.3 | 28,304 | 1.03241 | 29,221.
Vessel Inspection; Violation of 3318(b)-3318(f) | 46 U.S.C. 3318(l); 33 CFR 27.3 | 14,149 | 1.03241 | 14,608.
List/count of Passengers | 46 U.S.C. 3502(e); 33 CFR 27.3 | 294 | 1.03241 | 304.
Notification to Passengers | 46 U.S.C. 3504(c); 33 CFR 27.3 | 29,505 | 1.03241 | 30,461.
Notification to Passengers; Sale of Tickets | 46 U.S.C. 3504(c); 33 CFR 27.3 | 1,474 | 1.03241 | 1,522.
Copies of Laws on Passenger Vessels; Master | 46 U.S.C. 3506; 33 CFR 27.3 | 590 | 1.03241 | 609.
Liquid Bulk/Dangerous Cargo | 46 U.S.C. 3718(a)(1); 33 CFR 27.3 | 73,764 | 1.03241 | 76,155.
Uninspected Vessels | 46 U.S.C. 4106; 33 CFR 27.3 | 12,397 | 1.03241 | 12,799.
Recreational Vessels (maximum for related series of violations) | 46 U.S.C. 4311(b)(1); 33 CFR 27.3 | 390,271 | 1.03241 | 402,920.
Recreational Vessels; Violation of 4307(a) | 46 U.S.C. 4311(b)(1); 33 CFR 27.3 | 7,805 | 1.03241 | 8,058.
Recreational vessels | 46 U.S.C. 4311(d); 33 CFR 27.3 | 2,951 | 1.03241 | 3,047.
Uninspected Commercial Fishing Industry Vessels | 46 U.S.C. 4507; 33 CFR 27.3 | 12,397 | 1.03241 | 12,799.
Abandonment of Barges | 46 U.S.C. 4703; 33 CFR 27.3 | 2,100 | 1.03241 | 2,168.
Load Lines | 46 U.S.C. 5116(a); 33 CFR 27.3 | 13,508 | 1.03241 | 13,946.
Load Lines; Violation of 5112(a) | 46 U.S.C. 5116(b); 33 CFR 27.3 | 27,018 | 1.03241 | 27,894.
Load Lines; Violation of 5112(b) | 46 U.S.C. 5116(c); 33 CFR 27.3 | 13,508 | 1.03241 | 13,946.
Reporting Marine Casualties | 46 U.S.C. 6103(a); 33 CFR 27.3 | 47,061 | 1.03241 | 48,586.
Reporting Marine Casualties; Violation of 6104 | 46 U.S.C. 6103(b); 33 CFR 27.3 | 12,397 | 1.03241 | 12,799.
Manning of Inspected Vessels; Failure to Report Deficiency in Vessel Complement | 46 U.S.C. 8101(e); 33 CFR 27.3 | 2,233 | 1.03241 | 2,305.
Manning of Inspected Vessels | 46 U.S.C. 8101(f); 33 CFR 27.3 | 22,324 | 1.03241 | 23,048.
Manning of Inspected Vessels; Employing or Serving in Capacity not Licensed by USCG | 46 U.S.C. 8101(g); 33 CFR 27.3 | 22,324 | 1.03241 | 23,048.
Manning of Inspected Vessels; Freight Vessel <100 GT, Small Passenger Vessel, or Sailing School Vessel | 46 U.S.C. 8101(h); 33 CFR 27.3 | 2,951 | 1.03241 | 3,047.
Watchmen on Passenger Vessels | 46 U.S.C. 8102(a) | 2,951 | 1.03241 | 3,047.
Citizenship Requirements | 46 U.S.C. 8103(f) | 1,474 | 1.03241 | 1,522.
Watches on Vessels; Violation of 8104(a) or (b) | 46 U.S.C. 8104(i) | 22,324 | 1.03241 | 23,048.
Watches on Vessels; Violation of 8104(c), (d), (e), or (h) | 46 U.S.C. 8104(j) | 22,324 | 1.03241 | 23,048.
Staff Department on Vessels | 46 U.S.C. 8302(e) | 294 | 1.03241 | 304.
Officer's Competency Certificates | 46 U.S.C. 8304(d) | 294 | 1.03241 | 304.
Coastwise Pilotage; Owner, Charterer, Managing Operator, Agent, Master or Individual in Charge | 46 U.S.C. 8502(e) | 22,324 | 1.03241 | 23,048.
Coastwise Pilotage; Individual | 46 U.S.C. 8502(f) | 22,324 | 1.03241 | 23,048.
Federal Pilots | 46 U.S.C. 8503 | 70,752 | 1.03241 | 73,045.
Merchant Mariners Documents | 46 U.S.C. 8701(d) | 1,474 | 1.03241 | 1,522.
Crew Requirements | 46 U.S.C. 8702(e) | 22,324 | 1.03241 | 23,048.
Small Vessel Manning | 46 U.S.C. 8906 | 47,061 | 1.03241 | 48,586.
Pilotage: Great Lakes; Owner, Charterer, Managing Operator, Agent, Master or Individual in Charge | 46 U.S.C. 9308(a) | 22,324 | 1.03241 | 23,048.
Pilotage: Great Lakes; Individual | 46 U.S.C. 9308(b) | 22,324 | 1.03241 | 23,048.
Pilotage: Great Lakes; Violation of 9303 | 46 U.S.C. 9308(c) | 22,324 | 1.03241 | 23,048.
Pay Advances to Seamen | 46 U.S.C. 10314(a)(2) | 1,474 | 1.03241 | 1,522.
Pay Advances to Seamen; Remuneration for Employment | 46 U.S.C. 10314(b) | 1,474 | 1.03241 | 1,522.
Allotment to Seamen | 46 U.S.C. 10315(c) | 1,474 | 1.03241 | 1,522.
Seamen Protection; General | 46 U.S.C. 10321 | 10,226 | 1.03241 | 10,557.
Coastwise Voyages: Advances | 46 U.S.C. 10505(a)(2) | 10,226 | 1.03241 | 10,557.
Coastwise Voyages: Advances; Remuneration for Employment | 46 U.S.C. 10505(b) | 10,226 | 1.03241 | 10,557.
Coastwise Voyages: Seamen Protection; General | 46 U.S.C. 10508(b) | 10,226 | 1.03241 | 10,557.
Effects of Deceased Seamen | 46 U.S.C. 10711 | 590 | 1.03241 | 609.
Complaints of Unfitness | 46 U.S.C. 10902(a)(2) | 1,474 | 1.03241 | 1,522.
Proceedings on Examination of Vessel | 46 U.S.C. 10903(d) | 294 | 1.03241 | 304.
Permission to Make Complaint | 46 U.S.C. 10907(b) | 1,474 | 1.03241 | 1,522.
Accommodations for Seamen | 46 U.S.C. 11101(f) | 1,474 | 1.03241 | 1,522.
Medicine Chests on Vessels | 46 U.S.C. 11102(b) | 1,474 | 1.03241 | 1,522.
Destitute Seamen | 46 U.S.C. 11104(b) | 294 | 1.03241 | 304.
Wages on Discharge | 46 U.S.C. 11105(c) | 1,474 | 1.03241 | 1,522.
Log Books; Master Failing to Maintain | 46 U.S.C. 11303(a) | 590 | 1.03241 | 609.
Log Books; Master Failing to Make Entry | 46 U.S.C. 11303(b) | 590 | 1.03241 | 609.
Log Books; Late Entry | 46 U.S.C. 11303(c) | 443 | 1.03241 | 457.
Carrying of Sheath Knives | 46 U.S.C. 11506 | 148 | 1.03241 | 153.
Vessel Documentation | 46 U.S.C. 12151(a)(1) | 19,324 | 1.03241 | 19,950.
Documentation of Vessels—Related to Activities involving mobile offshore drilling units | 46 U.S.C. 12151 (a)(2) | 32,208 | 1.03241 | 33,252.
Vessel Documentation; Fishery Endorsement | 46 U.S.C. 12151(c) | 147,675 | 1.03241 | 152,461.
Numbering of Undocumented Vessels—Willful violation | 46 U.S.C. 12309(a) | 14,754 | 1.03241 | 15,232.
Numbering of Undocumented Vessels | 46 U.S.C. 12309(b) | 2,951 | 1.03241 | 3,047.
Vessel Identification System | 46 U.S.C. 12507(b) | 24,793 | 1.03241 | 25,597.
Measurement of Vessels | 46 U.S.C. 14701 | 54,038 | 1.03241 | 55,789.
Measurement; False Statements | 46 U.S.C. 14702 | 54,038 | 1.03241 | 55,789.
Commercial Instruments and Maritime Liens | 46 U.S.C. 31309 | 24,793 | 1.03241 | 25,597.
Commercial Instruments and Maritime Liens; Mortgagor | 46 U.S.C. 31330(a)(2) | 24,793 | 1.03241 | 25,597.
Commercial Instruments and Maritime Liens; Violation of 31329 | 46 U.S.C. 31330(b)(2) | 61,982 | 1.03241 | 63,991.
Ports and Waterway Safety Regulations | 46 U.S.C. 70036(a); 33 CFR 27.3 | 111,031 | 1.03241 | 114,630.
Vessel Navigation: Regattas or Marine Parades; Unlicensed Person in Charge | 46 U.S.C. 70041(d)(1)(B); 33 CFR 27.3 | 11,162 | 1.03241 | 11,524.
Vessel Navigation: Regattas or Marine Parades; Owner Onboard Vessel | 46 U.S.C. 70041(d)(1)(C); 33 CFR 27.3 | 11,162 | 1.03241 | 11,524.
Vessel Navigation: Regattas or Marine Parades; Other Persons | 46 U.S.C. 70041(d)(1)(D); 33 CFR 27.3 | 5,580 | 1.03241 | 5,761.
Port Security | 46 U.S.C. 70119(a) | 41,093 | 1.03241 | 42,425.
Port Security—Continuing Violations | 46 U.S.C. 70119(b) | 73,837 | 1.03241 | 76,230.
Maritime Drug Law Enforcement | 46 U.S.C. 70506(c) | 6,813 | 1.03241 | 7,034.
Hazardous Materials: Related to Vessels | 49 U.S.C. 5123(a)(1) | 96,624 | 1.03241 | 99,756.
Hazardous Materials: Related to Vessels—Penalty from Fatalities, Serious Injuries/Illness or substantial Damage to Property | 49 U.S.C. 5123(a)(2) | 225,455 | 1.03241 | 232,762.
Hazardous Materials: Related to Vessels; Training | 49 U.S.C. 5123(a)(3) | 582 | 1.03241 | 601.
* Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).
** Enacted under the Tariff Act; exempt from inflation adjustments.

E. Transportation Security Administration

The Transportation Security Administration (TSA) is updating its civil penalties regulation in accordance with the 2015 Act. Pursuant to its statutory authority in 49 U.S.C. 46301(a)(1), (4), (5), (6), 49 U.S.C. 46301(d)(2), (8), and 49 U.S.C. 114(u), TSA may impose penalties for violations of statutes that TSA administers, including penalties for violations of implementing regulations or orders. Note that pursuant to division K, title I, sec. 1904(b)(1)(I), of Public Law 115-254, 132 Stat. 3186, 3545 (Oct. 5, 2018), the TSA Modernization Act—part of the FAA Reauthorization Act of 2018—the former 49 U.S.C. 114(v), which relates to penalties, was re-designated as 49 U.S.C. 114(u).

TSA assesses these penalties for a wide variety of aviation and surface security requirements, including violations of TSA's requirements applicable to Transportation Worker Identification Credentials (TWIC),²⁸ as well as violations of requirements described in chapter 449 of title 49 of the U.S.C. These penalties can apply to a wide variety of situations, as described in the statutory and regulatory provisions, as well as in guidance that TSA publishes. Below is a table showing the 2024 adjustment for the penalties that TSA administers.

²⁸ See, e.g., 46 U.S.C. 70105, 49 U.S.C. 46302 and 46303, and 49 U.S.C. chapter 449.

Table 5—Transportation Security Administration Civil Penalties Adjustments
Penalty name | Citation | Penalty amount as adjusted in the 2023 FR | Multiplier * | New penalty as adjusted by this final rule
Violation of 49 U.S.C. ch. 449 (except secs. 44902, 44903(d), 44907(a)-(d)(1)(A), 44907(d)(1)(C)-(f), 44908, and 44909), or 49 U.S.C. 46302 or 46303, a regulation prescribed, or order issued thereunder by a person operating an aircraft for the transportation of passengers or property for compensation | 49 U.S.C. 46301(a)(1), (4), (5), (6); 49 U.S.C. 46301(d)(2), (8); 49 CFR 1503.401(c)(3) | $40,272 (up to a total of $644,343 per civil penalty action) | 1.03241 | $41,577 (up to a total of $665,226 per civil penalty action).
Violation of 49 U.S.C. ch. 449 (except secs. 44902, 44903(d), 44907(a)-(d)(1)(A), 44907(d)(1)(C)-(f), 44908, and 44909), or 49 U.S.C. 46302 or 46303, a regulation prescribed, or order issued thereunder by an individual (except an airman serving as an airman), any person not operating an aircraft for the transportation of passengers or property for compensation, or a small business concern | 49 U.S.C. 46301(a)(1), (4), (5); 49 U.S.C. 46301(d)(8); 49 CFR 1503.401(c) | $16,108 (up to a total of $80,544 for individuals or small businesses, $644,343 for others) | 1.03241 | $16,630 (up to a total of $83,154 for individuals or small businesses, $665,226 for others).
Violation of any other provision of title 49 U.S.C. or of 46 U.S.C. ch. 701, a regulation prescribed, or order issued thereunder | 49 U.S.C. 114(u); 49 CFR 1503.401(b) | $13,785 (up to a total of $68,928 total for individuals or small businesses, $551,417 for others) | 1.03241 | $14,232 (up to a total of $71,162 total for individuals or small businesses, $569,288 for others).
* Office of Mgmt. and Budget, Exec. Office of the President, M-24-07, Implementation of Penalty Inflation Adjustments for 2024, Pursuant to the Federal Civil Penalties Inflation Adjustment Act Improvements Act of 2015 (Dec. 19, 2022) (https://www.whitehouse.gov/wp-content/uploads/2023/12/M-24-07-Implementation-of-Penalty-Inflation-Adjustments-for-2024.pdf).

IV. Administrative Procedure Act

The Administrative Procedure Act (“APA”) (5 U.S.C. 551 et seq.) require agencies, when conducting rulemaking, to provide advance public notice, seek public comment, and provide a thirty-day delayed effective date. An agency may issue a rule without first providing an opportunity for notice and comment if the agency makes a finding of good cause that that notice and comment procedures are impracticable, unnecessary, or contrary to the public interest. Notice and comment procedures are unnecessary, for example, if Congress requires non-discretionary action of an agency, leaving the agency without discretion to vary its action in response to the views or suggestions of public commenters.

With respect to the annual inflation adjustments, DHS finds that notice and comment procedures are not required. The 2015 Act had instructed agencies to make the required annual adjustments “notwithstanding section 553 of title 5 of the U.S.C.” (See 28 U.S.C. 2461 note). Furthermore, DHS has good cause to forgo notice and comment procedures because such procedures would be unnecessary due to DHS's lack of discretion in updating the penalties. As required by the 2015 Act, DHS is updating the penalty amounts by applying the cost-of-living adjustment multiplier that OMB has provided to agencies. For the same reasons, DHS also finds that it has good cause to forgo a delayed effective date under section 553(d) of the APA.

With respect to the penalties that Coast Guard has added in this rulemaking, DHS finds that there is good cause to bypass notice and comment procedures. In this rule, the Coast Guard adds penalties to Table 1 in 33 CFR part 27. The penalties address master key control systems (46 U.S.C. 3106(d)), passenger vessel safety and security (46 U.S.C. 3507(h)(1)(A) and 46 U.S.C. 3508(d)), engine cut-off switches (46 U.S.C. 4311(c)), employing qualified available U.S. citizens or residents (46 U.S.C. 8106(f)(2)-(3)), the requirement to report sexual assault and harassment (46 U.S.C. 10104(a)(2) and 46 U.S.C. 10104(d)(2)), vessel escort operations and towing assistance (46 U.S.C. 55112(d)), and the regulation of vessels in the territorial waters of the United States (46 U.S.C. 70052(c). See Table 3, “U.S. Coast Guard Civil Penalty Additions,” above for more information on the penalties that the Coast Guard is adding to Table 1 in 33 CFR part 27. DHS finds that there is good cause to forgo notice and comment procedures for these additions because notice and comment procedures would be unnecessary. Notice and comment would not change either the initial maximum statutory penalties (set by their authorizing statutes) or the multiplier (set by OMB). The authorizing statutes for these penalties and the 2015 Act leave the Coast Guard no discretion to consider any other alternatives for setting the penalties. For the reasons stated above, DHS also finds that good cause exists to forgo a 30-day delayed effective date under section 553(d) of the APA.

V. Regulatory Analyses

A. Executive Orders 12866 and 13563

Executive Orders 12866 (“Regulatory Planning and Review”), as amended by Executive Order 14094 (“Modernizing Regulatory Review”), and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

OMB has not designated this final rule a “significant regulatory action” under section 3(f) of Executive Order 12866, as amended by Executive Order 14094. Accordingly, OMB has not reviewed this rule. This final rule makes nondiscretionary adjustments to existing civil monetary penalties in accordance with the 2015 Act and OMB guidance.²⁹ DHS therefore did not consider alternatives and does not have the flexibility to alter the adjustments of the civil monetary penalty amounts as provided in this rule. To the extent this final rule increases civil monetary penalties, it would result in an increase in transfers from persons or entities assessed a civil monetary penalty to the government.

²⁹ Office of Mgmt. and Budget, Exec. Office of the President, M-24-07, Implementation of Penalty Inflation Adjustments for 2024, Pursuant to the Federal Civil Penalties Inflation Adjustment Act Improvements Act of 2015 (Dec. 19, 2023) (https://www.whitehouse.gov/wp-content/uploads/2023/12/M-24-07-Implementation-of-Penalty-Inflation-Adjustments-for-2024.pdf).

B. Regulatory Flexibility Act

The Regulatory Flexibility Act applies only to rules for which an agency publishes a notice of proposed rulemaking pursuant to 5 U.S.C. 553(b). See 5 U.S.C. 601-612. The Regulatory Flexibility Act does not apply to this final rule because a notice of proposed rulemaking was not required for the reasons stated above.

C. Unfunded Mandates Reform Act

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. This final rule will not result in such an expenditure.

D. Paperwork Reduction Act

The provisions of the Paperwork Reduction Act of 1995, 44 U.S.C. chapter 35, and its implementing regulations, 5 CFR part 1320, do not apply to this final rule, because this final rule does not trigger any new or revised recordkeeping or reporting.

VI. Signing Authorities

The amendments to 19 CFR part 4 in this document are issued in accordance with 19 CFR 0.2(a), which provides that the authority of the Secretary of the Treasury with respect to CBP regulations that are not related to customs revenue functions was transferred to the Secretary of Homeland Security pursuant to Section 403(l) of the Homeland Security Act of 2002. Accordingly, this final rule to amend such regulations may be signed by the Secretary of Homeland Security (or his or her delegate).

List of Subjects

8 CFR Part 270

Administrative practice and procedure, Aliens, Employment, Fraud, Penalties.

8 CFR Part 274a

Administrative practice and procedure, Aliens, Employment, Penalties, Reporting and recordkeeping requirements.

8 CFR Part 280

Administrative practice and procedure, Immigration, Penalties.

19 CFR Part 4

Exports, Freight, Harbors, Maritime carriers, Oil pollution, Reporting and recordkeeping requirements, Vessels.

33 CFR Part 27

Administrative practice and procedure, Penalties.

49 CFR Part 1503

Administrative practice and procedure, Investigations, Law enforcement, Penalties.

Amendments to the Regulations

Accordingly, for the reasons stated in the preamble, DHS is amending 8 CFR parts 270, 274a, and 280, 19 CFR part 4, 33 CFR part 27, and 49 CFR part 1503 as follows:

Title 8—Aliens and Nationality

PART 270—PENALTIES FOR DOCUMENT FRAUD

1. The authority citation for part 270 continues to read as follows:

Authority: 8 U.S.C. 1101, 1103, and 1324c; Pub. L. 101-410, 104 Stat. 890, as amended by Pub. L. 104-134, 110 Stat. 1321 and Pub. L. 114-74, 129 Stat. 599.

2. In § 270.3, revise paragraphs (b)(1)(ii)(A) through (D) to read as follows:

§ 270.3 Penalties.

* * * * *

(b) * * *

(1) * * *

(ii) * * *

(A) First offense under section 274C(a)(1) through (a)(4). Not less than $275 and not exceeding $2,200 for each fraudulent document or each proscribed activity described in section 274C(a)(1) through (a)(4) of the Act before March 27, 2008; not less than $375 and not exceeding $3,200 for each fraudulent document or each proscribed activity described in section 274C(a)(1) through (a)(4) of the Act on or after March 27, 2008, and on or before November 2, 2015; and not less than $575 and not exceeding $4,610 for each fraudulent document or each proscribed activity described in section 274C(a)(1) through (a)(4) of the Act after November 2, 2015.

(B) First offense under section 274C(a)(5) or (a)(6). Not less than $250 and not exceeding $2,000 for each fraudulent document or each proscribed activity described in section 274C(a)(5) or (a)(6) of the Act before March 27, 2008; not less than $275 and not exceeding $2,200 for each fraudulent document or each proscribed activity described in section 274C(a)(5) or (a)(6) of the Act on or after March 27, 2008, and on or before November 2, 2015; and not less than $487 and not exceeding $3,887 for each fraudulent document or each proscribed activity described in section 274C(a)(5) or (a)(6) of the Act after November 2, 2015.

(C) Subsequent offenses under section 274C(a)(1) through (a)(4). Not less than $2,200 and not more than $5,500 for each fraudulent document or each proscribed activity described in section 274C(a)(1) through (a)(4) of the Act before March 27, 2008; not less than $3,200 and not exceeding $6,500 for each fraudulent document or each proscribed activity described in section 274C(a)(1) through (a)(4) of the Act occurring on or after March 27, 2008 and on or before November 2, 2015; and not less than $4,610 and not more than $11,524 for each fraudulent document or each proscribed activity described in section 274C(a)(1) through (a)(4) of the Act after November 2, 2015.

(D) Subsequent offenses under section 274C(a)(5) or (a)(6). Not less than $2,000 and not more than $5,000 for each fraudulent document or each proscribed activity described in section 274C(a)(5) or (a)(6) of the Act before March 27, 2008; not less than $2,200 and not exceeding $5,500 for each fraudulent document or each proscribed activity described in section 274C(a)(5) or (a)(6) of the Act occurring on or after March 27, 2008, and on or before November 2, 2015; and not less than $3,887 and not more than $9,718 for each fraudulent document or each proscribed activity described in section 274C(a)(5) or (a)(6) of the Act after November 2, 2015.

* * * * *

PART 274a—CONTROL OF EMPLOYMENT OF ALIENS

3. The authority citation for part 274a continues to read as follows:

Authority: 8 U.S.C. 1101, 1103, 1105a, 1324a; 48 U.S.C. 1806; 8 CFR part 2; Pub. L. 101-410, 104 Stat. 890, as amended by Pub. L. 114-74, 129 Stat. 599.

4. In § 274a.8, revise paragraph (b) to read as follows:

§ 274a.8 Prohibition of indemnity bonds.

* * * * *

(b) Penalty. Any person or other entity who requires any individual to post a bond or security as stated in this section shall, after notice and opportunity for an administrative hearing in accordance with section 274A(e)(3)(B) of the Act, be subject to a civil monetary penalty of $1,000 for each violation before September 29, 1999, of $1,100 for each violation occurring on or after September 29, 1999, but on or before November 2, 2015, and of $2,789 for each violation occurring after November 2, 2015, and to an administrative order requiring the return to the individual of any amounts received in violation of this section or, if the individual cannot be located, to the general fund of the Treasury.

5. In § 274a.10, revise paragraphs (b)(1)(ii)(A) through (C) and paragraph (b)(2) introductory text to read as follows:

§ 274a.10 Penalties.

* * * * *

(b) * * *

(1) * * *

(ii) * * *

(A) First offense—not less than $275 and not more than $2,200 for each unauthorized alien with respect to whom the offense occurred before March 27, 2008; not less than $375 and not exceeding $3,200, for each unauthorized alien with respect to whom the offense occurred occurring on or after March 27, 2008, and on or before November 2, 2015; and not less than $698 and not more than $5,579 for each unauthorized alien with respect to whom the offense occurred occurring after November 2, 2015;

(B) Second offense—not less than $2,200 and not more than $5,500 for each unauthorized alien with respect to whom the second offense occurred before March 27, 2008; not less than $3,200 and not more than $6,500, for each unauthorized alien with respect to whom the second offense occurred on or after March 27, 2008, and on or before November 2, 2015; and not less than $5,579 and not more than $13,946 for each unauthorized alien with respect to whom the second offense occurred after November 2, 2015; or

(C) More than two offenses—not less than $3,300 and not more than $11,000 for each unauthorized alien with respect to whom the third or subsequent offense occurred before March 27, 2008; not less than $4,300 and not exceeding $16,000, for each unauthorized alien with respect to whom the third or subsequent offense occurred on or after March 27, 2008, and on or before November 2, 2015; and not less than $8,369 and not more than $27,894 for each unauthorized alien with respect to whom the third or subsequent offense occurred after November 2, 2015; and

* * * * *

(2) A respondent determined by the Service (if a respondent fails to request a hearing) or by an administrative law judge, to have failed to comply with the employment verification requirements as set forth in § 274a.2(b), shall be subject to a civil penalty in an amount of not less than $100 and not more than $1,000 for each individual with respect to whom such violation occurred before September 29, 1999; not less than $110 and not more than $1,100 for each individual with respect to whom such violation occurred on or after September 29, 1999, and on or before November 2, 2015; and not less than $281 and not more than $2,789 for each individual with respect to whom such violation occurred after November 2, 2015. In determining the amount of the penalty, consideration shall be given to:

* * * * *

PART 280—IMPOSITION AND COLLECTION OF FINES

6. The authority citation for part 280 continues to read as follows:

Authority: 8 U.S.C. 1103, 1221, 1223, 1227, 1229, 1253, 1281, 1283, 1284, 1285, 1286, 1322, 1323, 1330; 66 Stat. 173, 195, 197, 201, 203, 212, 219, 221-223, 226, 227, 230; Pub. L. 101-410, 104 Stat. 890, as amended by Pub. L. 114-74, 129 Stat. 599.

7. In § 280.53, revise paragraphs (b)(1) through (15) to read as follows:

§ 280.53 Civil monetary penalties inflation adjustment.

* * * * *

(b) * * *

(1) Section 231(g) of the Act, penalties for non-compliance with arrival and departure manifest requirements for passengers, crewmembers, or occupants transported on commercial vessels or aircraft arriving to or departing from the United States: From $1,643 to $1,696.

(2) Section 234 of the Act, penalties for non-compliance with landing requirements at designated ports of entry for aircraft transporting aliens: From $4,465 to $4,610.

(3) Section 240B(d) of the Act, penalties for failure to depart voluntarily: From $1,881 minimum/$9,413 maximum to $1,942 minimum/$9,718 maximum.

(4) Section 243(c)(1)(A) of the Act, penalties for violations of removal orders relating to aliens transported on vessels or aircraft, under section 241(d) of the Act, or for costs associated with removal under section 241(e) of the Act: From $3,765 to $3,887.

(5) Penalties for failure to remove alien stowaways under section 241(d)(2) of the Act: From $9,413 to $9,718.

(6) Section 251(d) of the Act, penalties for failure to report an illegal landing or desertion of alien crewmen, and for each alien not reported on arrival or departure manifest or lists required in accordance with section 251 of the Act: From $446 to $460; and penalties for use of alien crewmen for longshore work in violation of section 251(d) of the Act: From $11,162 to $11,524.

(7) Section 254(a) of the Act, penalties for failure to control, detain, or remove alien crewmen: From $1,116 minimum/$6,696 maximum to $1,152 minimum/$6,913 maximum.

(8) Section 255 of the Act, penalties for employment on passenger vessels of aliens afflicted with certain disabilities: From $2,232 to $2,304.

(9) Section 256 of the Act, penalties for discharge of alien crewmen: From $3,348 minimum/$6,696 maximum to $3,457 minimum/$6,913 maximum.

(10) Section 257 of the Act, penalties for bringing into the United States alien crewmen with intent to evade immigration laws: From $22,324 maximum to $23,048 maximum.

(11) Section 271(a) of the Act, penalties for failure to prevent the unauthorized landing of aliens: From $6,696 to $6,913.

(12) Section 272(a) of the Act, penalties for bringing to the United States aliens subject to denial of admission on a health-related ground: From $6,696 to $6,913.

(13) Section 273(b) of the Act, penalties for bringing to the United States aliens without required documentation: From $6,696 to $6,913.

(14) Section 274D of the Act, penalties for failure to depart: From $942 maximum to $973 maximum, for each day the alien is in violation.

(15) Section 275(b) of the Act, penalties for improper entry: From $94 minimum/$472 maximum to $97 minimum/$487 maximum, for each entry or attempted entry.

Title 19—Customs Duties

PART 4—VESSELS IN FOREIGN AND DOMESTIC TRADES

8. The authority citation for part 4 continues to read in part as follows:

Authority: 5 U.S.C. 301; 19 U.S.C. 66, 1415, 1431, 1433, 1434, 1624, 2071 note; 46 U.S.C. 501, 60105.

* * * * *

Sections 4.80, 4.80a, and 4.80b also issued under 19 U.S.C. 1706a; 28 U.S.C. 2461 note; 46 U.S.C. 12112, 12117, 12118, 50501-55106, 55107, 55108, 55110, 55114, 55115, 55116, 55117, 55119, 56101, 55121, 56101, 57109; Pub. L. 108-7, Division B, Title II, § 211;

* * * * *

Section 4.92 also issued under 28 U.S.C. 2461 note; 46 U.S.C. 55111;

* * * * *

9. In § 4.80, revise paragraphs (b)(2) and (i) to read as follows:

§ 4.80 Vessels entitled to engage in coastwise trade.

* * * * *

(b) * * *

(2) The penalty imposed for the unlawful transportation of passengers between coastwise points is $300 for each passenger so transported and landed on or before November 2, 2015, and $971 for each passenger so transported and landed after November 2, 2015 (46 U.S.C. 55103, as adjusted by the Federal Civil Penalties Inflation Adjustment Act Improvements Act of 2015).

* * * * *

(i) Any vessel, entitled to be documented and not so documented, employed in a trade for which a Certificate of Documentation is issued under the vessel documentation laws (see § 4.0(c)), other than a trade covered by a registry, is liable to a civil penalty of $500 for each port at which it arrives without the proper Certificate of Documentation on or before November 2, 2015, and $1,617 for each port at which it arrives without the proper Certificate of Documentation after November 2, 2015 (19 U.S.C. 1706a, as adjusted by the Federal Civil Penalties Inflation Adjustment Act Improvements Act of 2015). If such a vessel has on board any foreign merchandise (sea stores excepted), or any domestic taxable alcoholic beverages, on which the duty and taxes have not been paid or secured to be paid, the vessel and its cargo are subject to seizure and forfeiture.

10. In § 4.92, revise the third sentence to read as follows:

§ 4.92 Towing.

* * * The penalties for violation of this section occurring after November 2, 2015, are a fine of from $1,132 to $3,558 against the owner or master of the towing vessel and a further penalty against the towing vessel of $193 per ton of the towed vessel (46 U.S.C. 55111, as adjusted by the Federal Civil Penalties Inflation Adjustment Act Improvements Act of 2015).

Title 33—Navigation and Navigable Waters

PART 27—ADJUSTMENT OF CIVIL MONETARY PENALTIES FOR INFLATION

11. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

12. In § 27.3, revise the third sentence of the introductory text and Table 1 to read as follows:

§ 27.3 Penalty adjustment table.

* * * The adjusted civil penalty amounts listed in Table 1 to this section are applicable for penalty assessments issued after June 28, 2024, with respect to violations occurring after November 2, 2015. * * *

Table 1 to § 27.3—Civil Monetary Penalty Inflation Adjustments
U.S. Code citation | Civil monetary penalty description | 2024 Adjusted maximum penalty amount ($)
14 U.S.C. 521(c) | Saving Life and Property | $12,958
14 U.S.C. 521(e) | Saving Life and Property; Intentional Interference with Broadcast | 1,330
14 U.S.C. 936(i) | Confidentiality of Medical Quality Assurance Records (first offense) | 6,508
14 U.S.C. 936(i) | Confidentiality of Medical Quality Assurance Records (subsequent offenses) | 43,394
19 U.S.C. 70 | Obstruction of Revenue Officers by Masters of Vessels | 9,704
19 U.S.C. 70 | Obstruction of Revenue Officers by Masters of Vessels—Minimum Penalty | 2,264
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 14,069
33 U.S.C. 474 | Anchorage Ground/Harbor Regulations St. Mary's River | 971
33 U.S.C. 495(b) | Bridges/Failure to Comply with Regulations | 35,516
33 U.S.C. 499(c) | Bridges/Drawbridges | 35,516
33 U.S.C. 502(c) | Bridges/Failure to Alter Bridge Obstructing Navigation | 35,516
33 U.S.C. 533(b) | Bridges/Maintenance and Operation | 35,516
33 U.S.C. 1208(a) | Bridge to Bridge Communication; Master, Person in Charge or Pilot | 2,587
33 U.S.C. 1208(b) | Bridge to Bridge Communication; Vessel | 2,587
33 U.S.C. 1321(b)(6)(B)(i) | Oil/Hazardous Substances: Discharges (Class I per violation) | 23,048
33 U.S.C. 1321(b)(6)(B)(i) | Oil/Hazardous Substances: Discharges (Class I total under paragraph) | 57,617
33 U.S.C. 1321(b)(6)(B)(ii) | Oil/Hazardous Substances: Discharges (Class II per day of violation) | 23,048
33 U.S.C. 1321(b)(6)(B)(ii) | Oil/Hazardous Substances: Discharges (Class II total under paragraph) | 288,080
33 U.S.C. 1321(b)(7)(A) | Oil/Hazardous Substances: Discharges (per day of violation) Judicial Assessment | 57,617
33 U.S.C. 1321(b)(7)(A) | Oil/Hazardous Substances: Discharges (per barrel of oil or unit discharged) Judicial Assessment | 2,305
33 U.S.C. 1321(b)(7)(B) | Oil/Hazardous Substances: Failure to Carry Out Removal/Comply With Order (Judicial Assessment) | 57,617
33 U.S.C. 1321(b)(7)(C) | Oil/Hazardous Substances: Failure to Comply with Regulation Issued Under 1321(j) (Judicial Assessment) | 57,617
33 U.S.C. 1321(b)(7)(D) | Oil/Hazardous Substances: Discharges, Gross Negligence (per barrel of oil or unit discharged) Judicial Assessment | 6,913
33 U.S.C. 1321(b)(7)(D) | Oil/Hazardous Substances: Discharges, Gross Negligence—Minimum Penalty (Judicial Assessment) | 230,464
33 U.S.C. 1322(j) | Marine Sanitation Devices; Operating | 9,704
33 U.S.C. 1322(j) | Marine Sanitation Devices; Sale or Manufacture | 25,871
33 U.S.C. 1608(a) | International Navigation Rules; Operator | 18,139
33 U.S.C. 1608(b) | International Navigation Rules; Vessel | 18,139
33 U.S.C. 1908(b)(1) | Pollution from Ships; General | 90,702
33 U.S.C. 1908(b)(2) | Pollution from Ships; False Statement | 18,139
33 U.S.C. 2072(a) | Inland Navigation Rules; Operator | 18,139
33 U.S.C. 2072(b) | Inland Navigation Rules; Vessel | 18,139
33 U.S.C. 2609(a) | Shore Protection; General | 63,991
33 U.S.C. 2609(b) | Shore Protection; Operating Without Permit | 25,597
33 U.S.C. 2716a(a) | Oil Pollution Liability and Compensation | 57,617
33 U.S.C. 3852(a)(1)(A) | Clean Hulls; Civil Enforcement | 52,753
33 U.S.C. 3852(a)(1)(A) | Clean Hulls; related to false statements | 70,337
33 U.S.C. 3852(c) | Clean Hulls; Recreational Vessels | 7,034
42 U.S.C. 9609(a) | Hazardous Substances, Releases, Liability, Compensation (Class I) | 69,733
42 U.S.C. 9609(b) | Hazardous Substances, Releases, Liability, Compensation (Class II) | 69,733
42 U.S.C. 9609(b) | Hazardous Substances, Releases, Liability, Compensation (Class II subsequent offense) | 209,202
42 U.S.C. 9609(c) | Hazardous Substances, Releases, Liability, Compensation (Judicial Assessment) | 69,733
42 U.S.C. 9609(c) | Hazardous Substances, Releases, Liability, Compensation (Judicial Assessment subsequent offense) | 209,202
46 U.S.C. 80509(a) | Safe Containers for International Cargo | 7,622
46 U.S.C. 70305(c) | Suspension of Passenger Service | 76,230
46 U.S.C. 2110(e) | Vessel Inspection or Examination Fees | 11,524
46 U.S.C. 2115 | Alcohol and Dangerous Drug Testing | 9,380
46 U.S.C. 2302(a) | Negligent Operations: Recreational Vessels | 8,485
46 U.S.C. 2302(a) | Negligent Operations: Other Vessels | 42,425
46 U.S.C. 2302(c)(1) | Operating a Vessel While Under the Influence of Alcohol or a Dangerous Drug | 9,380
46 U.S.C. 2306(a)(4) | Vessel Reporting Requirements: Owner, Charterer, Managing Operator, or Agent | 14,608
46 U.S.C. 2306(b)(2) | Vessel Reporting Requirements: Master | 2,922
46 U.S.C. 3102(c)(1) | Immersion Suits | 14,608
46 U.S.C. 3106(d) | Master Key Control System | 1,032
46 U.S.C. 3302(i)(5) | Inspection Permit | 3,047
46 U.S.C. 3318(a) | Vessel Inspection; General | 14,608
46 U.S.C. 3318(g) | Vessel Inspection; Nautical School Vessel | 14,608
46 U.S.C. 3318(h) | Vessel Inspection; Failure to Give Notice in accordance with (IAW) 3304(b) | 2,922
46 U.S.C. 3318(i) | Vessel Inspection; Failure to Give Notice IAW 3309(c) | 2,922
46 U.S.C. 3318(j)(1) | Vessel Inspection; Vessel ≥1600 Gross Tons | 29,221
46 U.S.C. 3318(j)(1) | Vessel Inspection; Vessel <1600 Gross Tons (GT) | 5,844
46 U.S.C. 3318(k) | Vessel Inspection; Failure to Comply with 3311(b) | 29,221
46 U.S.C. 3318(l) | Vessel Inspection; Violation of 3318(b)-3318(f) | 14,608
46 U.S.C. 3502(e) | List/count of Passengers | 304
46 U.S.C. 3504(c) | Notification to Passengers | 30,461
46 U.S.C. 3504(c) | Notification to Passengers; Sale of Tickets | 1,522
46 U.S.C. 3506 | Copies of Laws on Passenger Vessels; Master | 609
46 U.S.C. 3507(h)(1)(A) | Passenger Vessel Security and Safety; Daily Penalty & Maximum Penalty | 25,810 Daily/ 51,621 Maximum
46 U.S.C. 3508(d) | Passenger Vessel Security and Safety; Crewmembers Crime Scene Preservation Training; Maximum Penalty | 51,621
46 U.S.C. 3718(a)(1) | Liquid Bulk/Dangerous Cargo | 76,155
46 U.S.C. 4106 | Uninspected Vessels | 12,799
46 U.S.C. 4311(b)(1) | Recreational Vessels (maximum for related series of violations) | 402,920
46 U.S.C. 4311(b)(1) | Recreational Vessels; Violation of 4307(a) | 8,058
46 U.S.C. 4311(c) | Engine Cut-Off Switches; Violation of 4312(b), First Offense | 103
46 U.S.C. 4311(c) | Engine Cut-Off Switches; Violation of 4312(b), Second Offense | 258
46 U.S.C. 4311(c) | Engine Cut-Off Switches; Violation of 4312(b), Subsequent to Second Offense | 516
46 U.S.C. 4311(d) | Recreational Vessels | 3,047
46 U.S.C. 4507 | Uninspected Commercial Fishing Industry Vessels | 12,799
46 U.S.C. 4703 | Abandonment of Barges | 2,168
46 U.S.C. 5116(a) | Load Lines | 13,946
46 U.S.C. 5116(b) | Load Lines; Violation of 5112(a) | 27,894
46 U.S.C. 5116(c) | Load Lines; Violation of 5112(b) | 13,946
46 U.S.C. 6103(a) | Reporting Marine Casualties | 48,586
46 U.S.C. 6103(b) | Reporting Marine Casualties; Violation of 6104 | 12,799
46 U.S.C. 8101(e) | Manning of Inspected Vessels; Failure to Report Deficiency in Vessel Complement | 2,305
46 U.S.C. 8101(f) | Manning of Inspected Vessels | 23,048
46 U.S.C. 8101(g) | Manning of Inspected Vessels; Employing or Serving in Capacity not Licensed by U.S. Coast Guard (USCG) | 23,048
46 U.S.C. 8101(h) | Manning of Inspected Vessels; Freight Vessel <100 GT, Small Passenger Vessel, or Sailing School Vessel | 3,047
46 U.S.C. 8102(a) | Watchmen on Passenger Vessels | 3,047
46 U.S.C. 8103(f) | Citizenship Requirements | 1,522
46 U.S.C. 8104(i) | Watches on Vessels; Violation of 8104(a) or (b) | 23,048
46 U.S.C. 8104(j) | Watches on Vessels; Violation of 8104(c), (d), (e), or (h) | 23,048
46 U.S.C. 8106(f) | Employing Qualified Available U.S. Citizens or Residents | 10,324 Daily/ 103,241 Maximum
46 U.S.C. 8302(e) | Staff Department on Vessels | 304
46 U.S.C. 8304(d) | Officer's Competency Certificates | 304
46 U.S.C. 8502(e) | Coastwise Pilotage; Owner, Charterer, Managing Operator, Agent, Master or Individual in Charge | 23,048
46 U.S.C. 8502(f) | Coastwise Pilotage; Individual | 23,048
46 U.S.C. 8503 | Federal Pilots | 73,045
46 U.S.C. 8701(d) | Merchant Mariners Documents | 1,522
46 U.S.C. 8702(e) | Crew Requirements | 23,048
46 U.S.C. 8906 | Small Vessel Manning | 48,586
46 U.S.C. 9308(a) | Pilotage: Great Lakes; Owner, Charterer, Managing Operator, Agent, Master or Individual in Charge | 23,048
46 U.S.C. 9308(b) | Pilotage: Great Lakes; Individual | 23,048
46 U.S.C. 9308(c) | Pilotage: Great Lakes; Violation of 9303 | 23,048
46 U.S.C. 10104(a)(2) | Requirement to Report Sexual Assault and Harassment; Mandatory Reporting by Responsible Entity of a Vessel | 51,621
46 U.S.C. 10104(d)(2) | Requirement to Report Sexual Assault and Harassment; Company After Action Summary, violation of 10104(d)(1) | 25,810
46 U.S.C. 10104(d)(2) | Requirement to Report Sexual Assault and Harassment; Company After Action Summary, Daily Noncompliance Penalty | 516
46 U.S.C. 10104(d)(2) | Requirement to Report Sexual Assault and Harassment; Company After Action Summary, Civil Penalty Maximum | 51,621
46 U.S.C. 10314(a)(2) | Pay Advances to Seamen | 1,522
46 U.S.C. 10314(b) | Pay Advances to Seamen; Remuneration for Employment | 1,522
46 U.S.C. 10315(c) | Allotment to Seamen | 1,522
46 U.S.C. 10321 | Seamen Protection; General | 10,557
46 U.S.C. 10505(a)(2) | Coastwise Voyages: Advances | 10,557
46 U.S.C. 10505(b) | Coastwise Voyages: Advances; Remuneration for Employment | 10,557
46 U.S.C. 10508(b) | Coastwise Voyages: Seamen Protection; General | 10,557
46 U.S.C. 10711 | Effects of Deceased Seamen | 609
46 U.S.C. 10902(a)(2) | Complaints of Unfitness | 1,522
46 U.S.C. 10903(d) | Proceedings on Examination of Vessel | 304
46 U.S.C. 10907(b) | Permission to Make Complaint | 1,522
46 U.S.C. 11101(f) | Accommodations for Seamen | 1,522
46 U.S.C. 11102(b) | Medicine Chests on Vessels | 1,522
46 U.S.C. 11104(b) | Destitute Seamen | 304
46 U.S.C. 11105(c) | Wages on Discharge | 1,522
46 U.S.C. 11303(a) | Log Books; Master Failing to Maintain | 609
46 U.S.C. 11303(b) | Log Books; Master Failing to Make Entry | 609
46 U.S.C. 11303(c) | Log Books; Late Entry | 457
46 U.S.C. 11506 | Carrying of Sheath Knives | 153
46 U.S.C. 12151(a)(1) | Vessel Documentation | 19,950
46 U.S.C. 12151(a)(2) | Documentation of Vessels—Related to activities involving mobile offshore drilling units | 33,252
46 U.S.C. 12151(c) | Vessel Documentation; Fishery Endorsement | 152,461
46 U.S.C. 12309(a) | Numbering of Undocumented Vessels—Willful violation | 15,232
46 U.S.C. 12309(b) | Numbering of Undocumented Vessels | 3,047
46 U.S.C. 12507(b) | Vessel Identification System | 25,597
46 U.S.C. 14701 | Measurement of Vessels | 55,789
46 U.S.C. 14702 | Measurement; False Statements | 55,789
46 U.S.C. 31309 | Commercial Instruments and Maritime Liens | 25,597
46 U.S.C. 31330(a)(2) | Commercial Instruments and Maritime Liens; Mortgagor | 25,597
46 U.S.C. 31330(b)(2) | Commercial Instruments and Maritime Liens; Violation of 31329 | 63,991
46 U.S.C. 55112(d) | Vessel Escort Operations and Towing Assistance | 10,324
46 U.S.C. 70052(c) | Regulation of Vessels in Territorial Waters of the United States | 25,810
46 U.S.C. 70036(a) | Ports and Waterways Safety Regulations | 114,630
46 U.S.C. 70041(d)(1)(B) | Vessel Navigation: Regattas or Marine Parades; Unlicensed Person in Charge | 11,524
46 U.S.C. 70041(d)(1)(C) | Vessel Navigation: Regattas or Marine Parades; Owner Onboard Vessel | 11,524
46 U.S.C. 70041(d)(1)(D) | Vessel Navigation: Regattas or Marine Parades; Other Persons | 5,761
46 U.S.C. 70119(a) | Port Security | 42,425
46 U.S.C. 70119(b) | Port Security—Continuing Violations | 76,230
46 U.S.C. 70506 | Maritime Drug Law Enforcement; Penalties | 7,034
49 U.S.C. 5123(a)(1) | Hazardous Materials: Related to Vessels—Maximum Penalty | 99,756
49 U.S.C. 5123(a)(2) | Hazardous Materials: Related to Vessels—Penalty from Fatalities, Serious Injuries/Illness or Substantial Damage to Property | 232,762
49 U.S.C. 5123(a)(3) | Hazardous Materials: Related to Vessels—Training | 601
¹ Enacted under the Tariff Act of 1930 exempt from inflation adjustments.

Title 49—Transportation

PART 1503—INVESTIGATIVE AND ENFORCEMENT PROCEDURES

13. The authority citation for part 1503 continues to read as follows:

Authority: 6 U.S.C. 1142; 18 U.S.C. 6002; 28 U.S.C. 2461 (note); 49 U.S.C. 114, 20109, 31105, 40113-40114, 40119, 44901-44907, 46101-46107, 46109-46110, 46301, 46305, 46311, 46313-46314; Pub. L. 104-134, as amended by Pub. L. 114-74.

14. In § 1503.401, revise paragraphs (b)(1) and (2) and (c)(1), (2), and (3) to read as follows:

§ 1503.401 Maximum penalty amounts.

* * * * *

(b) * * *

(1) For violations that occurred on or before November 2, 2015, $10,000 per violation, up to a total of $50,000 per civil penalty action, in the case of an individual or small business concern (“small business concern” as defined in section 3 of the Small Business Act (15 U.S.C. 632)). For violations that occurred after November 2, 2015, $14,232 per violation, up to a total of $71,162 per civil penalty action, in the case of an individual or small business concern; and

(2) For violations that occurred on or before November 2, 2015, $10,000 per violation, up to a total of $400,000 per civil penalty action, in the case of any other person. For violations that occurred after November 2, 2015, $14,232 per violation, up to a total of $569,288 per civil penalty action, in the case of any other person.

(c) * * *

(1) For violations that occurred on or before November 2, 2015, $10,000 per violation, up to a total of $50,000 per civil penalty action, in the case of an individual or small business concern (“small business concern” as defined in section 3 of the Small Business Act (15 U.S.C. 632)). For violations that occurred after November 2, 2015, $16,630 per violation, up to a total of $83,154 per civil penalty action, in the case of an individual (except an airman serving as an airman), or a small business concern.

(2) For violations that occurred on or before November 2, 2015, $10,000 per violation, up to a total of $400,000 per civil penalty action, in the case of any other person (except an airman serving as an airman) not operating an aircraft for the transportation of passengers or property for compensation. For violations that occurred after November 2, 2015, $16,630 per violation, up to a total of $665,226 per civil penalty action, in the case of any other person (except an airman serving as an airman) not operating an aircraft for the transportation of passengers or property for compensation.

(3) For violations that occurred on or before November 2, 2015, $25,000 per violation, up to a total of $400,000 per civil penalty action, in the case of a person operating an aircraft for the transportation of passengers or property for compensation (except an individual serving as an airman). For violations that occurred after November 2, 2015, $41,577 per violation, up to a total of $665,226 per civil penalty action, in the case of a person (except an individual serving as an airman) operating an aircraft for the transportation of passengers or property for compensation.

Jonathan E. Meyer,
General Counsel, U.S. Department of Homeland Security.

[FR Doc. 2024-14121 Filed 6-27-24; 8:45 am]

BILLING CODE 9110-04- 9110-05- 9110-9P- 9111-14- 9111-28-P